DEPARTMENT OF COMMERCE

International Trade Administration

Unfair Trade Practices Task Force

AGENCY: Import Administration, International Trade Administration, Department of Commerce.

ACTION: Request for public comment—Unfair Trade Practices Task Force.

SUMMARY: The Department of Commerce is requesting public comment on the work of the newly established Unfair Trade Practices Task Force. To help the Task Force establish its initial priorities, the Department is asking the public and representatives of the manufacturing sector to identify unfair trade practices of greatest concern that are deserving of the Task Force's attention.

DATES: Written comments and electronic files must be received on or before 5 p.m., eastern daylight savings time, June 28, 2004.

ADDRESSES: Persons wishing to comment should file a signed original and six copies of each set of comments by the deadline specified above. Written comments should be sent to Ronald Lorentzen, Acting Director, Office of Policy, Import Administration, Room 3713, Department of Commerce, 14th Street and Constitution Ave., NW., Washington, DC 20230. Comments should be limited to 20 pages or less.

All comments responding to this notice will be a matter of public record and will be available for public inspection and copying at Import Administration's Central Records Unit, Room B-099, between the hours of 8:30 a.m. and 5 p.m. on business days. The Department will not accept comments accompanied by a request that a part or all of the material be treated confidentially because of its business proprietary nature or for any other reason. The Department will return such comments and materials to the persons submitting the comments and will not consider them.

The Department requires that comments be submitted in written form, but also recommends submission of comments in electronic form to accompany the required paper copies. Comments filed in electronic form should be submitted either by e-mail to the webmaster below, or on CD-ROM, as comments submitted on diskettes are likely to be damaged by postal radiation treatment. Electronic files should state “Comments on Unfair Trade Practices Task Force” in the subject line. Comments received in electronic form will be made available to the public in Portable Document Format (PDF) on the Internet at the Import Administration web site at the following address: http://ia.ita.doc.gov/. Any questions concerning file formatting, document conversion, access on the Internet, or other electronic filing issues should be addressed to Andrew Lee Beller, Import Administration Webmaster, at (202) 482-0866, or at the e-mail address: webmaster-support@ita.doc.gov.

FOR FURTHER INFORMATION CONTACT: Ronald Lorentzen or Kelly Parkhill at (202) 482-4412.

SUPPLEMENTARY INFORMATION: On January 16, 2004, Secretary of Commerce Donald L. Evans issued “Manufacturing in America, A Comprehensive Strategy to Address the Challenges to U.S. Manufacturers”. This report identifies the major economic, commercial and regulatory challenges facing the manufacturing sector, and recommends a number of steps that the Administration and the Congress could take to help strengthen the sector's ability to compete in the global market place and create jobs in the United States.

As part of this effort, the Department of Commerce recently established an Unfair Trade Practices Task Force within Import Administration to pursue the elimination of foreign unfair trade practices that prejudice or adversely affect U.S. commercial interests. To assist the Task Force in formulating its initial priorities, the Department is asking the public and representatives of the manufacturing sector to identify those unfair trade practices of greatest concern and impact. The Department is interested in receiving comments on all types of foreign unfair trade practices, including those practices which currently may not be subject to specific or adequate trade disciplines, as well as comments on the underlying market distortions that may have contributed to or resulted from the practice in question. Where appropriate, the Department also welcomes any suggestions on the most effective ways in which the Task Force can assist in addressing the particular unfair trade practices identified.

Dated: May 20, 2004.
James J. Jochum,
Assistant Secretary for Import Administration.

[FR Doc. 04-12050 Filed 5-26-04; 8:45 am]

BILLING CODE 3510-DS-P